GENERAL SERVICES ADMINISTRATION

Federal Travel Regulation (FTR); Maximum Per Diem Rates for the States of Alabama, California, Illinois, Missouri, New York, and Texas

AGENCY: Office of Governmentwide Policy, General Services Administration (GSA).

ACTION: Notice of Per Diem Bulletin 08-03, revised continental United States (CONUS) per diem rates.

SUMMARY: The General Services Administration (GSA) has reviewed the per diem rates for certain locations in the States of Alabama, California, Illinois, Missouri, and Texas, using more current lodging industry data, as well as data on where Federal travelers actually stay when visiting these locations. The county information for St. Louis, Missouri has expanded to include the counties of Crawford, Franklin, Jefferson, Lincoln, Warren, and Washington. Queens, New York will have the same per diem rates as Manhattan beginning March 17, 2008.

Finally, an analysis of the meals and incidental expenses (M&IE) data reveals that the maximum M&IE rates for the State of Alabama, the city of Mobile, including the county of Mobile; the State of California, the cities of Eureka, Arcata, and McKinleyville, including the county of Humboldt; and the State of Texas, the city of Beaumont, including the county of Jefferson, should be increased and adjusted to provide for the reimbursement of Federal employees' M&IE expenses.

The per diem rates prescribed in Bulletin 08-03 may be found at http://www.gsa.gov/perdiem.

DATES: This notice is effective March 17, 2008 and applies to travel performed on or after March 17, 2008.

FOR FURTHER INFORMATION CONTACT: For clarification of content, contact Mr. Cy Greenidge, Office of Governmentwide Policy, Travel Management Policy, at (202) 219-2349. Please cite FTR Per Diem Bulletin 08-03.

SUPPLEMENTARY INFORMATION:

A. Background

After an analysis of the per diem rates established for FY 2008 (see the Federal Register notice at 72 FR 43642, August 6, 2007), the per diem rate is being changed in the following locations:

State of Alabama

• Mobile County

State of California

• Humboldt County

• Monterey County

State of Illinois

• Bond County

• Calhoun County

• Clinton County

• Jersey County

• Macoupin County

• Madison County

• Monroe County

• St. Clair County

State of Missouri

• St. Louis City

• St. Louis County

• St. Charles County

• Crawford County

• Franklin County

• Jefferson County

• Lincoln County

• Warren County

• Washington County

State of New York

• The borough of Queens

State of Texas

• Jefferson County

Per diem rates are published on the Internet at http://www.gsa.gov/perdiem as an FTR Per Diem Bulletin and published in the Federal Register on a periodic basis. This process ensures timely increases or decreases in per diem rates established by GSA for Federal employees on official travel within CONUS. Notices published periodically in the Federal Register, such as this one, now constitute the only notification of revisions in CONUS per diem rates to agencies.

Dated: March 3, 2008.
Russell H. Pentz,
Assistant Deputy Associate Administrator, Office of Travel, Transportation and Asset Management.

[FR Doc. E8-4593 Filed 3-6-08; 8:45 am]

BILLING CODE 6820-14-P